DEPARTMENT OF HEALTH AND HUMAN SERVICES

Office of the Secretary

[Document Identifier: HHS-OS—60D-0990-New]

Agency Information Collection Activities; Proposed Collection; Public Comment Request

AGENCY: Office of the Secretary

ACTION: Notice.

SUMMARY: In compliance with the requirement of the Paperwork Reduction Act of 1995, the Office of the Secretary (OS), Department of Health and Human is publishing the following summary of a proposed collection for public comment.

DATES: Comments on the ICR must be received on or before September 30, 2024.

ADDRESSES: Submit your comments to Sherrette.funn@hhs.gov or by calling (202) 264-0041 and PRA@HHS.GOV

FOR FURTHER INFORMATION CONTACT: When submitting comments or requesting information, please include the document identifier 0990-New-60D and project title for reference, to Sherrette A. Funn, email: Sherrette.Funn@hhs.gov, PRA@HHS.GOV or call (202) 264-0041 the Reports Clearance Officer.

SUPPLEMENTARY INFORMATION: Interested persons are invited to send their comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of Information Collection: Performance and Evaluation Measurement Systems (PEMS).

Type of Collection: New Data Collection.

OMB No.: 0990-New.

Abstract: The U.S. Department of Health and Human Services (HHS) Office of Minority Health (OMH) is requesting OMB approval for PEMS. The proposed information collection activity will allow OMH to collect grant management and performance data and disparity impact information for all OMH-funded projects. The clearance is needed to support data collection using Grant Solutions, a system that enables OMH to comply with Federal reporting requirements and monitor and evaluate performance by enabling the efficient collection of performance-oriented data tied to OMH-wide performance reporting needs. The ability to monitor and evaluate performance in this manner, and to work towards continuous program improvement are basic functions that OMH must be able to accomplish to carry out its mandate with the most effective and appropriate use of resources.

Total Estimated Annualized Burden—Hours
Form name | Number of respondents | Number of responses per respondent | Average burden per response (in hours) | Total burden hours
Disparity Impact Statement Template | 125 | 1 | 1 | 125
OMH Performance Progress Report | 125 | 4 | 1.5 | 750
Total | 250 | 5 | 2.5 | 875

Sherrette A. Funn,
Paperwork Reduction Act Reports Clearance Officer, Office of the Secretary.

[FR Doc. 2024-16818 Filed 7-30-24; 8:45 am]

BILLING CODE 4150-36-P